DEPARTMENT OF HEALTH AND HUMAN SERVICES

Office of Inspector General

Program Exclusions: July 2005

AGENCY: Office of Inspector General, HHS.

ACTION: Notice of program exclusions.

During the month of July 2005, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
AFSHARIAN, PAYAM | 8/18/2005
SANTA MONICA, CA
AQUATIC & PHYSICAL THERAPY ASSOCIATES | 8/18/2005
KALAMAZOO, MI
AWAHMUKALAH, MARGARET | 8/18/2005
AVONDALE, PA
BERGMAN, BARBARA | 8/18/2005
RHINELANDER, WI
BILLS, BETTY | 8/18/2005
OPA LOCKA, FL
BROWN, KELENKA | 8/18/2005
E CHICAGO, IN
CABALLERO, HERMINIO | 8/18/2005
MIAMI, FL
CAP PHARMACY, INC | 12/13/2004
DENVER, CO
CERDA, LOURDES | 8/18/2005
FONTANA, CA
COCHRAN, JUDITH | 8/18/2005
GUTHRIE, OK
DANIELS, LANISHA | 8/18/2005
LUDLOW, MA
DOORLAG, DIANE | 8/18/2005
GALESBURG, MI
DUNLAP, TANYA | 8/18/2005
HOQUIAM, WA
ELIAS, JORGE | 8/18/2005
NORWALK, CT
ELLIOT, PAUL | 8/18/2005
STUART, FL
FORREST, MARGARET | 8/18/2005
BREMEN, OH
GAMBRO SUPPLY CORPORATION | 12/1/2004
BRENTWOOD, TN
GBOGI, GABRIEL | 8/18/2005
KALAMAZOO, MI
HAMILTON, WILLIAM | 8/18/2005
OWENSBORO, KY
IYOTTE, ALENA | 8/18/2005
SAINT FRANCIS, SD
JENKINS, SHARON | 8/18/2005
LOUISVILLE, KY
JIN, KYO | 8/18/2005
LOS ANGELES, CA
KIRKPATRICK, CAROL | 8/18/2005
AUSTIN, TX
KNOWLES, GREGORY | 8/18/2005
TEQUESTA, FL
LEVIN, IRVING | 8/18/2005
STUDIO CITY, CA
LODGE, MAILEE | 8/18/2005
JONESBOROUGH, TN
MALLORY, JAMES | 8/18/2005
BIG CANOE, GA
MARTIN, WILLIAM | 8/18/2005
OAKDALE, LA
MONROE, RAUL | 8/18/2005
BRISTOL, FL
NORRIS, MICHELLE | 8/18/2005
EAGLE BUTTE, SD
OKON, COLUMBUS | 4/29/2003
PHOENIX, AZ
OKORO, CHIJIOKE | 8/18/2005
FORREST CITY, AR
PASCUA, LEA | 8/28/2003
MESA, AZ
PASHA, MAHZAR | 8/18/2005
MONTGOMERY, AL
PERRY, SHEILA | 8/18/2005
RICHMOND, VA
RAMEE, DANNETTER | 8/18/2005
METAIRIE, LA
RANA, ATHAR | 8/18/2005
ODESSA, TX
RUSHING, PHILLIP | 8/18/2005
BIXBY, OK
SMITH, ROBIN | 8/18/2005
FREEPORT, ME
STEPPUHN, JORGE | 8/18/2005
POMONA, CA
SUBER, TYRONE | 8/18/2005
COLUMBIA, SC
TAVARES, KATHERINE | 8/18/2005
GALVESTON, TX
THREET, STEVEN | 8/18/2005
JACKSON, TN
THREET, STEVEN | 8/18/2008
JACKSON, TN
VARA, MANUEL | 8/18/2005
CORPUS CHRISTI, TX
WAINWRIGHT, WAYNE | 8/18/2005/
POMONA, CA
WALLER, CALVIN | 8/18/2005
BUFFALO, NY
WICK, CARMEN | 8/18/2005
FOND DU LAC, WI
YEDID, JOSEPH | 8/18/2005
SAN DIEGO, CA
FELONY CONVICTION FOR HEALTH CARE FRAUD
BARBER, DAWN | 8/18/2005
LINCOLN, RI
BEAM, CATHIE | 8/18/2005
KEENE, NH
BELFORD, MARY | 8/18/2005
TOLEDO, OH
CATANZANO, MARK | 8/18/2005
AYER, MA
CRADIC, ANTHONY | 8/18/2005
KINGSPORT, TN
DARNELL, KEVIN | 8/18/2005
MARION, IL
EMORY, DAWN | 8/18/2005
HIGHLAND HEIGHTS, KY
FERGUSON, MARTA | 8/18/2005
ZANESVILLE, OH
HAGGARD, SHARON | 8/18/2005
COLUMBUS, OH
HOFER, NORLAND | 8/18/2005
FRANKFORT, SD
LEE, NICOLE | 8/18/2005
CINCINNATI, OH
LOWE, TROY | 8/18/2005
MARIETTA, OH
MADDOX, REGINA | 8/18/2005
HAMILTON, OH
MARSHALL, HEIDI | 8/18/2005
VANCEBURG, KY
MAY, AMANDA | 8/18/2005
FORT MYERS, FL
MORENO, MARGARITA | 8/18/2005
PHOENIX, AZ
PEMBERTON, TINA | 8/18/2005
TROY, OH
PHILLIPS, DANIEL | 8/18/2005
YOUNGSTOWN, OH
PREVENTION PHYSICAL THERAPY, INC | 4/5/2004
KALAMAZOO, MI
QUAST, MELISSA | 8/18/2005
DOUGLAS, AZ
SHOLTIS, JOHN | 8/18/2005
STEUBENVILLE, OH
TRAN, QUY | 8/18/2005
SACRAMENTO, CA
VOGEL, BARRY | 8/18/2005
LIVINGSTON, NJ
XAVIER, LILLIE | 8/18/2005
MIAMI, FL
FELONY CONTROL SUBSTANCE CONVICTION
ALDERSON, JAMES | 8/18/2005
COLVILLE, WA
BAZINET DAWKINS, PAULA | 8/18/2005
ATLANTA, GA
BRANAM, LAWRENCE | 8/18/2005
FLORISSANT, MO
BRANNON, MISTY | 8/18/2005
LIMA, OH
BYERS, ANGELA | 8/18/2005
RIVERSIDE, CA
CAMPBELL, LISA | 8/18/2005
NORTH PORT, FL
COYNE, DANIELLE | 8/18/2005
CONCORD, OH
CRAWFORD, LOIS | 8/18/2005
FREDERICK, CO
DARBY, REBECCA | 8/18/2005
PORTSMOUTH, OH
DAVIS, CLIFFORD | 8/18/2005
TAFT, CA
DECAPUA, ANN | 8/18/2005
PAINESVILLE, OH
DINENNO, THERESE | 8/18/2005
HATBORO, PA
HAYNES, STACY | 8/18/2005
POPLAR BLUFF, MO
JOHNSON, MICHELLE | 8/18/2005
ALBERT LEA, MN
KELLY, GLENN | 8/18/2005
WEST HEMPSTEAD, NY
LAWSON, TERRY | 8/18/2005
WHITLEY CITY, KY
LICARI, JOSEPH | 8/18/2005
CANTON, MI
MCDANIEL, JANET | 8/18/2005
HOUSTON, TX
O'BRIEN, JAMES | 8/18/2005
CAMARILLO, CA
PACIFICO, MICHAEL | 8/18/2005
EASTON, PA
ROADS, SUSAN | 8/18/2005
GREENFIELD, OH
RODKEY, JEFFREY | 8/18/2005
CHANCE, MD
SCIOLI, ADAM | 8/18/2005
PHILADELPHIA, PA
SHAW, LAKENDRA | 8/18/2005
VIRGINIA BEACH, VA
SMITH, KAREN | 8/18/2005
LA MIRADA, CA
TUCKER, CHRISTINA | 8/18/2005
SHERMAN, TX
WISE, MARSHA | 8/18/2005
AKRON, OH
PATIENT ABUSE/NEGLECT CONVICTIONS
ALLEN, JOSHUA | 8/18/2005
FT WALTON BEACH, FL
BAKER, CHRISTOPHER | 8/18/2005
MALVERN, IA
BAKER, MELVIN | 8/18/2005
CARDIFF BY THE SEA, CA
BALLENGER, VINCENT | 8/18/2005
MOBERLY, MO
BOYD, BRENDA | 8/18/2005
PLAIN DEALING, LA
HENDRICKSON, STEPHANIE | 8/18/2005
KUNA, ID
HILL, JAMES | 8/18/2005
LAUREL, MS
JOSEPH, ISAAC | 8/18/2005
S. YARMOUTH, MA
LANCERIO, SAUL | 8/18/2005
CRANSTON, RI
LEATHERBURY, LINDA | 8/18/2005
SAN ANTONIO, TX
LONDA, SALEH | 8/18/2005
MOUNT RAINIER, MD
LOPEZ, LISA | 8/18/2005
EL CAJON, CA
MAGEE, ANTOINETTE | 8/18/2005
PASCAGOULA, MS
MATHENGE, SIMON | 8/18/2005
OKLAHOMA CITY, OK
MCGEE, LATASHA | 8/18/2005
SHREVEPORT, LA
MEYER, LISA | 8/18/2005
DAVENPORT, IA
OACHS, KRISTAL | 8/18/2005
ALBERT LEA, MN
PICKLES, ELIZABETH | 8/18/2005
NEWTON, IA
RUTLEDGE, NAOMI | 8/18/2005
COOLIDGE, AZ
SHEEHAN, MONICA | 8/18/2005
WARWICK, RI
SMILEY, JOHN | 8/18/2005
CRESTVIEW HILLS, KY
SMITH, WILLIE | 8/18/2005
DETROIT, MI
STROHLIN, LLEWELLYN | 8/18/2005
CAMERON, MO
WELLS, BARBARA | 8/18/2005
WILMINGTON, DE
WILLIAMS, NELLIE | 8/18/2005
AVONDALE, LA
YOUNG, MARY | 8/18/2005
TULSA, OK
CONVICTION FOR HEALTH CARE FRAUD
BARNWELL, KIMBERLY | 8/18/2005
HOLLYWOOD, SC
JONES, RANDY | 8/18/2005
TULSA, OK
PEREA, ROBERTO | 8/18/2005
SAN PEDRO, CA
POWELL, RICHARD | 8/18/2005
BALTIMORE, MD
WATERS, VANDETTA | 8/18/2005
ORANGEBURG, SC
LICENSE REVOCATION/SUSPENSION/SURRENDERED
ADAMS, HOMER | 8/18/2005
VANCOUVER, WA
AKIN, JAMIE | 8/18/2005
BRANDENBURG, KY
ALEMAN, DAVID | 8/18/2005
ODEM, TX
ANDERSON, MATTHEW | 8/18/2005
MORENCI, AZ
ANGULO, ARMANDO | 8/18/2005
DORAL, FL
APPLEGATE, LORETTA | 8/18/2005
SPRINGFIELD, MO
ARNOLD, JOANN | 8/18/2005
GARDENDALE, AL
ASKEW, LINDA | 8/18/2005
ST LOUIS, MO
ATKINSON, LARAINNE | 8/18/2005
RIEGELWOOD, NC
AUSTIN, JANETTA | 8/18/2005
BOLIVAR, MO
BALDWIN, ROBERT | 8/18/2005
PORTERVILLE, CA
BARRETT, KEVIN | 8/18/2005
BENSON, NC
BATE, JULIE | 8/18/2005
CLEARWATER, FL
BAZUA, ANGELICA | 8/18/2005
TUCSON, AZ
BEAN, MARY | 8/18/2005
FT WORTH, TX
BENNER, ADRIAN | 8/18/2005
SCHURZ, NV
BENZ, MARY | 8/18/2005
VENICE, FL
BOSSARD, HELENA | 8/18/2005
FT MYERS, FL
BOWLER, CAROL | 8/18/2005
MOCKSVILLE, NC
BRADFORD, NATALIE | 8/18/2005
DISPUTANTA, VA
BREDENKAMP, DAWN | 8/18/2005
TUCSON, AZ
BROCKBANK, KEVEN | 8/18/2005
TAYLORSVILLE, UT
BROOKS, ROY | 8/18/2005
WILTON MANORS, FL
BROWN, ADAM | 8/18/2005
GAINESVILLE, FL
BROWN, DONNA | 8/18/2005
FRANKLIN, WI
BUBKE, GAIL | 8/18/2005
KINGSLEY, IA
BURCH, ROSAMARY | 8/18/2005
AMARILLO, TX
BURGESS, DONNA | 8/18/2005
ASHEBORO, NC
CARO, YADIRA | 8/18/2005
BRANDON, FL
CHAPMAN, JOHN | 8/18/2005
FT WALTON BEACH, FL
CJ'S BODYWORKS | 8/18/2005
JACKSONVILLE BEACH, FL
CLARKE, KATRINA | 8/18/2005
CAPE CORAL, FL
CLENDENON, JUDITH | 8/18/2005
MCCALL, ID
COLLINS, JANICE | 8/18/2005
MADAWASKA, ME
COY, LAURA | 8/18/2005
QUINCY, MA
DAY, SHIRLEY | 8/18/2005
DECATUR, TN
DEITCH, JOHN | 8/18/2005
SAN DIEGO, CA
DENNY, KERMIT | 8/18/2005
TUCSON, AZ
DUPUIS, ANGELA | 8/18/2005
VERO BEACH, FL
ELLIOTT, LINDA | 8/18/2005
PHOENIX, AZ
ENGRISSEI, PATRICIA | 8/18/2005
HADDONFIELD, NJ
ESTAVILLE, MICHELLE | 8/18/2005
OXNARD, CA
FABULAE, CHERYL | 8/18/2005
KANSAS CITY, MO
FANGEROW, STEPHEN | 8/18/2005
RUNNING SPRINGS, CA
FARIES, JOSEPH | 8/18/2005
PORTAGEVILLE, MO
FEE, CINDY | 8/18/2005
CHANDLER, AZ
FENLEY, LINDA | 8/18/2005
MEMPHIS, TN
FORD, MAJOR | 8/18/2005
LOS ANGELES, CA
FUGITT, STEVE | 8/18/2005
LINDSAY, CA
GEMICI, MURAT | 8/18/2005
VISTA, CA
GIACOLETTI, JOSHUA | 8/18/2005
TUCSON, AZ
GOMEZ, CECILIA | 8/18/2005
MIRA LOMA, CA
GOMEZ, KATHRYN | 8/18/2005
CALEXICO, CA
GUAN, BIHONG | 8/18/2005
AMBLER, PA
GULER, NANCY | 8/18/2005
HANNAFORD, ND
GWALTNEY, JANIS | 8/18/2005
CARBONDALE, IL
HALL, JOYCE | 8/18/2005
APOPKA, FL
HANEY, TERESA | 8/18/2005
ROANOKE, VA
HARRIS, PRESTON | 8/18/2005
SAN JOSE, CA
HASSELL, CYNTHIA | 8/18/2005
AUSTIN, TX
HEBENSTREIT, CATHRYN | 8/18/2005
ST LOUIS, MO
HEMINGWAY, THERESA | 8/18/2005
WEST JORDAN, UT
HOLLAND, STEVEN | 8/18/2005
ERICK, OK
HRISO, AMY | 8/18/2005
BLOOMINGTON, IN
HUNTER, BRANDON | 8/18/2005
MATTHEWS, NC
JEALOUS, JAMES | 8/18/2005
N WOODSTOCK, NH
JENNINGS, NICHOLE | 8/18/2005
LOUISVILLE, KY
JOCHEMS, ADRIAN | 8/18/2005
GLENWOOD SPRINGS, CO
JOHNSON, DELORES | 8/18/2005
COLUMBUS, OH
KABRY, WILLIAM | 8/18/2005
NAPLES, FL
KELLEY, SUSAN | 8/18/2005
WARREN, MI
KINCAID, BRENDA | 8/18/2005
LEWISBURG, TN
KROL, TERESA | 8/18/2005
MCLEAN, VA
KUEHL, SUSAN | 8/18/2005
REDLANDS, CA
KUSZ, LINDA | 8/18/2005
SOUTH BEND, IN
LANCEY, SHERRYL | 8/18/2005
CHARLOTTE, NC
LEE, MARILYN | 8/18/2005
GLENDALE, AZ
LEFTWICH, JAMES | 8/18/2005
TOLUCA LAKE, CA
LIM, MICHAEL | 8/18/2005
JACKSON, CA
LOFTIN, BOBBI | 8/18/2005
TIMBERLAKE, NC
MAHNESMITH, JAIME | 8/18/2005
GALESBURG, IL
MANGINA, CAROLA N | 8/18/2005
FT MYERS, FL
MANTZ, CYNTHIA | 8/18/2005
AFTON, VA
MARSHALL, JANET | 8/18/2005
FERNANDINA BEACH, FL
MCCLANAHAN, WILLIAM | 8/18/2005
PULASKI, VA
MCCREARY, NORA | 8/18/2005
MIDDLESBORO, KY
MCPHEE, ROBERT | 8/18/2005
TARPON SPRING, FL
MEADORS, DEBRA | 8/18/2005
SELLERSBURG, IN
MESSNER, MICHELLE | 8/18/2005
SARASOTA, FL
MINKER, DEBORAH | 8/18/2005
FT LAUDERDALE, FL
MIRO, AURELIO | 8/18/2005
LUBBOCK, TX
MOKARZEL, KATHRYN | 8/18/2005
AUSTIN, TX
MOLINA, LUIS | 8/18/2005
CORAL GABLES, FL
MORGAN, JOANNE | 8/18/2005
WINTER PARK, FL
MORRIS, JAMES | 8/18/2005
KANSAS CITY, MO
MOSLEY, THOMAS | 8/18/2005
RICHMOND, VA
MURRAY, CLIFF | 8/18/2005
COSTA MESA, CA
NEWTON, STEPHEN | 8/18/2005
BIRMINGHAM, AL
NIXON, ALLISON | 8/18/2005
ASHDOWN, AR
O'CONNELL, DENISE | 8/18/2005
WESTVIEW, KY
OSUJI, GAD | 8/18/2005
LOS ANGELES, CA
PAIGE, ROBERT | 8/18/2005
FLORENCE, AZ
PEBENITO, KENNETH | 8/18/2005
DARIEN, IL
PENDLETON, JAMES | 8/18/2005
DUBLIN, CA
POWELL, ARLENE | 8/18/2005
PHOENIX, AZ
PRESTON, TRISHA | 8/18/2005
PHOENIX, AZ
RANNELS, MARK | 8/18/2005
NEW PROVIDENCE, PA
REATH, ERIN | 8/18/2005
KNOXVILLE, TN
REYNOLDS, CONSTANCE | 8/18/2005
S DAYTONA, FL
RIDDLE, SHEILA | 8/18/2005
BURKESVILLE, KY
RIDPATH, TRACY | 8/18/2005
HOLLISTER, MO
ROLLINS, DONNA | 8/18/2005
MERIDIAN, MS
ROMAN, YVONNE | 8/18/2005
HOLLYWOOD, FL
ROSAS, IRENE | 8/18/2005
PHOENIX, AZ
ROSEN, TRUDI | 8/18/2005
OVEIDO, FL
RUFFIN, GARY | 8/18/2005
TUCSON, AZ
SALANGSANG, EDGARDO | 8/18/2005
HAYWARD, CA
SALTER, KIM | 8/18/2005
NEDERLAND, TX
SCHLAGENHAUFF, SCOTT | 8/18/2005
COLUMBIA, MO
SCOTT-RODRIGUEZ, MIA | 8/18/2005
PROVIDENCE, RI
SEALE, CINDY | 8/18/2005
LOUISVILLE, KY
SHANLEY, SUSAN | 8/18/2005
RIVERSIDE, RI
SHERWIN, BOBBY | 8/18/2005
JERSEYVILLE, IL
SIKES, LISA | 8/18/2005
SAGINAW, TX
SIMPSON, JODY | 8/18/2005
HARWICH, MA
SIMPSON, PAMELA | 8/18/2005
WINSTON SALEM, NC
SMITH, CARRIE | 8/18/2005
SALEM, VA
SMITH, STEPHEN | 8/18/2005
KAMUELA, HI
STAVRON, JEFFREY | 8/18/2005
TROY, MO
STONE, TAMATHA | 8/18/2005
LEWISVILLE, AR
STORER, ARLICE | 8/18/2005
LOUISVILLE, KY
SUMMER, JOANNE | 8/18/2005
DUTTON, VA
SWITALA, JOANNE | 8/18/2005
SOUTHHAMPTON, PA
TAYLOR, VICKIE | 8/18/2005
CHARLOTTE, NC
THOMPSON, PATRICIA | 8/18/2005
GARLAND, TX
TINHORN, ALBERT | 8/18/2005
KAYENTA, AZ
TKACH, MARY | 8/18/2005
BUCKEYE, AZ
TUCKER, LORI | 8/18/2005
TUCSON, AZ
TURNER, TERESA | 8/18/2005
LAKESIDE, CA
VIDALES, ABIGAIL | 8/18/2005
LOS ANGELES, CA
VILLEGAS, DEBRA | 8/18/2005
ESMONT, VA
WEBBER, DAVID | 8/18/2005
WEST HARTFORD, CT
WEDDLE, KELLY | 8/18/2005
ROANOKE, VA
WILLIAMS, PRESTON | 8/18/2005
AURORA, CO
WILSON, RHONDA | 8/18/2005
NASHVILLE, TN
WITTE, GARY | 8/18/2005
LAKE HAVASU, AZ
WRIGHT, TERESA | 8/18/2005
RAYMORE, MO
YI, STEVEN | 8/18/2005
CENTREVILLE, VA
YODER, SHARON | 8/18/2005
HOLLSOPPLE, PA
ZITO, ALAINA | 8/18/2005
CAPE MAY, NJ
FEDERAL/STATE EXCLUSION/SUSPENSION
UMANSKY, MICHAEL | 8/18/2005
LOS ANGELES, CA
FRAUD/KICKBACKS/PROHIBITED ACTS/SETTLEMENT AGREEMENTS
BERGMAN, BARBARA | 3/21/2005
RHINELANDER, WI
CARROLL, JO ANN | 5/4/2005
GLENCOE, MO
DENNY, BRIAN | 4/12/2005
MINNEAPOLIS, MN
MERRIFIELD, JANET | 11/30/2004
BRYAN, TX
SNYDER, TIMOTHY | 12/13/2004
MOORESVILLE, NC
OWNED/CONTROLLED BY CONVICTED ENTITIES
HIALEAH GARDENS, FL
DEFAULT ON HEAL LOAN
ADONIZIO, CHARLES | 7/25/2005
WILKES BARRE, PA
DILL, GREGORY | 8/18/2005
ASHEVILLE, NC
ERICSON, JAMES | 8/18/2005
MINNEAPOLIS, MN
JACOBS, STEVEN | 8/18/2005
FLUSHING, NY
NELSON, WILLIAM | 8/18/2005
BRUNSWICK, GA
VARVA, CHRIS | 8/18/2005
SWANSBORO, NC
WRIGHT-BENFORD, SHEILA | 8/18/2005
W BLOOMFIELD, MI

Dated: July 28, 2005.
Katherine B. Petrowski,
Director, Exclusions Staff, Office of Inspector General.

[FR Doc. 05-15888 Filed 8-10-05; 8:45 am]

BILLING CODE 4152-01-U